DEPARTMENT OF HEALTH AND HUMAN SERVICES

Administration for Children and Families

Submission for OMB Review; Child Care and Development Fund (CCDF) State Monitoring Compliance Demonstration Packet (New Collection)

AGENCY: Office of Child Care; Administration for Children and Families; HHS.

ACTION: Request for public comment.

SUMMARY: The Office of Child Care (OCC), Administration for Children and Families (ACF), U.S. Department of Health and Human Services (HHS), is proposing to collect data for a new Onsite Monitoring System to evaluate grantee compliance with (1) The Child Care and Development Block Grant (CCDBG) Act; (2) CCDF Regulations; and (3) The State/Territory CCDF approved Plan.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The proposed data collection will be used by the Office of Child Care (OCC) to monitor State CCDF Lead Agencies to determine and validate compliance with CCDF regulations and the approved State Plan. The data collection is designed to provide States with the flexibility to propose an approach that is feasible and sufficient to demonstrate compliance based on State circumstances and processes. State Lead Agencies will participate in onsite monitoring based on a 3-year cohort; submitting data once every three years. OCC will begin monitoring for compliance in Fiscal Year 2019.

The data collection for the first 3-years will focus on 11 topical areas: (1) Disaster Preparedness, Response and Recovery; (2) Consumer Education: Dissemination of Information to Parents, Providers, and General Public (Monitoring Reports and Annual Aggregate Data); (3) Twelve-Month Eligibility; (4) Child: Staff Ratios and Group Sizes; (5) Health and Safety Requirements for Providers (11 Health and Safety Topics); (6) Pre-Service/Orientation and Ongoing Training Requirements for Providers; (7) Inspections for CCDF Licensed Providers; (8) Inspections for License-Exempt CCDF Providers; (9) Ratios for Licensing Inspectors; (10) Child Abuse and Neglect Reporting; and (11) Program Integrity.

In developing the Onsite Monitoring System, OCC convened a workgroup of states to provide feedback and input on the design of the Onsite Monitoring System. As part of the workgroup discussions, states emphasized the need for individualized monitoring because of the complexity of each state's CCDF structure and variance in implementation strategies. As a response, OCC developed the Compliance Demonstration Packet that offers states the opportunity to propose their approach to demonstrating compliance based on how their CCDF program is administered. OCC also consulted other federal programs and monitoring experts on the Onsite Monitoring System's development and incorporated their feedback regarding the efficiency and efficacy of the proposed process.

During the development of the Onsite Monitoring System, OCC conducted pilots in a number of States. Feedback received from pilot States and the pilot results were used to enhance the monitoring process and data collection method. Burden estimates below are based on an analysis of data collected through all of the pilot visits while accounting for variance in state documentation.

Respondents: State grantees and the District of Columbia.

Annual Burden Estimates: Respondents will be required to submit 2 separate instruments. First the Compliance Demonstration Chart will be submitted and reviewed by ACF-OCC. For this chart, OCC is looking for a high-level description of how the state proposes to demonstrate compliance. No additional materials should be submitted with this chart. After review by OCC, any changes or edits to the chart will be finalized in collaboration with the State. Once the final Compliance Demonstration Chart is submitted, the State will have 4-6 weeks to complete the Document Submission Chart and provide the associated materials.

Instrument | Total number of respondents | Number of responses per respondent | Average burden hours per response | Annual burden hours
Compliance Demonstration Chart | 17 | 1 | 16 | 272
Document Submission Chart | 17 | 1 | 80 | 1,360

Estimated Total Annual Burden Hours: 1,632.

Authority: Sec. 658I of the Child Care and Development Block Grant Act Subpart J of 45 CFR, Part 98 of the Child Care and Development Fund.

Mary B. Jones,
ACF/OPRE Certifying Officer.

[FR Doc. 2019-10406 Filed 5-17-19; 8:45 am]

BILLING CODE 4184-43-P